DEPARTMENT OF TRANSPORTATION

Federal Aviation Administration

14 CFR Part 39

[Docket No. FAA-2008-0224; Directorate Identifier 2007-NE-44-AD; Amendment 39-17085; AD 2009-07-01 R1]

RIN 2120-AA64

Airworthiness Directives; Rolls-Royce Deutschland Ltd & Co KG (RRD) Turbofan Engines

AGENCY: Federal Aviation Administration (FAA), DOT.

ACTION: Final rule; rescission.

SUMMARY: We are rescinding an airworthiness directive (AD) for RRD BR700-715A1-30, BR700-715B1-30, and BR700-715C1-30 turbofan engines. The existing AD resulted from the need to reduce the published life limits of high-pressure (HP) turbine stage 1 discs, part numbers (P/Ns) BRH20130 and BRH20131, and HP turbine stage 2 discs, P/Ns BRH19423 and BRH19427. We are rescinding the existing AD because RRD has revised the approved published life limits of these parts to the same or higher limits as originally certified.

DATES: This AD is effective August 6, 2012.

ADDRESSES: You may examine the AD docket on the Internet at http://www.regulations.gov; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue SE., Washington, DC 20590.

FOR FURTHER INFORMATION CONTACT: Mark Riley, Aerospace Engineer, Engine Certification Office, FAA, Engine & Propeller Directorate, 12 New England Executive Park, Burlington, MA 01803; phone: 781-238-7758; fax: 781-238-7199; email: mark.riley@faa.gov.

SUPPLEMENTARY INFORMATION:

Discussion

We issued a notice of proposed rulemaking (NPRM) to amend 14 CFR part 39 to rescind an AD that would apply to the specified products. That NPRM published in the Federal Register on February 21, 2012 (77 FR 9869). That NPRM proposed to rescind AD 2009-07-01 (74 FR 12086, March 23, 2009) for RRD BR700-715A1-30, BR700-715B1-30, and BR700-715C1-30 turbofan engines. AD 2009-07-01 resulted from the need to reduce the published life limits of HP turbine stage 1 discs, P/Ns BRH20130 and BRH20131, and HP turbine stage 2 discs, P/Ns BRH19423 and BRH19427. We are rescinding that AD because RRD has revised the approved published life limits of these parts to the same or higher limits as originally certified. We evaluated all information and determined that allowing the increase in the published part life limits is acceptable.

Comments

We gave the public the opportunity to participate in developing this AD. We received no comments on the NPRM (77 FR 9869, February 21, 2012).

Conclusion

We reviewed the relevant data and determined that air safety and the public interest require adopting the AD as proposed.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by rescinding airworthiness directive (AD) 2009-07-01, Amendment 39-15860 (74 FR 12086, March 23, 2009):

2009-07-01 R1 Rolls-Royce Deutschland Ltd & Co KG (formerly BMW Rolls-Royce GmbH, formerly BMW Rolls-Royce Aero Engines): Amendment 39-17085; Docket No. FAA-2008-0224; Directorate Identifier 2007-NE-44-AD.

(a) Effective Date

This AD is effective August 6, 2012.

(b) Affected ADs

This AD rescinds AD 2009-07-01 (74 FR 12086, March 23, 2009).

(c) Applicability

This AD applies to Rolls-Royce Deutschland Ltd & Co KG BR700-715A1-30, BR700-715B1-30, and BR700-715C1-30 turbofan engines.

(d) Related Information

For more information about this AD, contact Mark Riley, Aerospace Engineer, Engine Certification Office, FAA, Engine & Propeller Directorate, 12 New England Executive Park, Burlington, MA 01803; phone: 781-238-7758; fax: 781-238-7199; email: mark.riley@faa.gov.

(e) Material Incorporated by Reference

None.

Issued in Burlington, Massachusetts, on June 7, 2012.
Peter A. White,
Manager, Engine & Propeller Directorate, Aircraft Certification Service.

[FR Doc. 2012-15961 Filed 6-29-12; 8:45 am]

BILLING CODE 4910-13-P